DEPARTMENT OF HEALTH AND HUMAN SERVICES

Office of the Secretary

Office of the Assistant Secretary for Financial Resources (ASFR); Statement of Organization, Functions, and Delegations of Authority

Part A, Office of the Secretary, Statement of Organization, Functions and Delegations of Authority for the Department of Health and Human Services (HHS) is being amended at Chapter AM, Office of the Assistant Secretary for Financial Resources, as last amended at 77 FR 19666-67, dated April 2, 2012. This reorganization will eliminate the Office of Executive Program Information (AMW) within ASFR through the following changes:

A. Under Section AM.10 Organization, delete the last sentence of the section in its entirety and replace with the following:

The office consists of the following components:

• Immediate Office of the Assistant Secretary (AM).

• Office of Budget (AML).

• Office of Finance (AMS).

• Office of Grants and Acquisition Policy and Accountability (AMT).

B. Under Section AM.20 Functions, delete Chapter AMW, Office of Executive Program Information (OEPI), in its entirety.

Dated: November 13, 2013.
E.J. Holland, Jr.,
Assistant Secretary for Administration.

[FR Doc. 2014-01712 Filed 1-28-14; 8:45 am]

BILLING CODE 4150-24-P